DEPARTMENT OF THE TREASURY

Financial Crimes Enforcement Network

Proposed Collection; Comment Request; Currency Transaction Report

AGENCY: Financial Crimes Enforcement Network, Treasury.

ACTION: Notice and request for comments.

SUMMARY: As part of its continuing effort to reduce paperwork and respondent burden, the Financial Crimes Enforcement Network (FinCEN) invites comment on the proposed renewal without change of the Currency Transaction Report (CTR), FinCEN Form 104. This request for comment is being made pursuant to the Paperwork Reduction Act of 1995, Public Law 104-13, 44 U.S.C. 3506(c)(2)(A).

DATES: Written comments are welcome and must be received on or before December 1, 2009.

ADDRESSES: Written comments should be submitted to: Regulatory Policy and Programs Division, Financial Crimes Enforcement Network, Department of the Treasury, P.O. Box 39, Vienna, Virginia 22183, Attention: PRA Comments—CTR-Currency Transaction Report, FinCEN Form 104. Comments also may be submitted by electronic mail to the following Internet address: regcomments@fincen.gov, again with a caption, in the body of the text, “Attention: PRA Comments—CTR-Currency Transaction Report, FinCEN Form 104.”

Inspection of comments. Comments received may be inspected, between 10 a.m. and 4 p.m., in the FinCEN reading room in Vienna, VA. Persons wishing to inspect the comments submitted must request an appointment with the Disclosure Officer by telephoning (703) 905-5034 (not a toll free call).

FOR FURTHER INFORMATION CONTACT: The FinCEN Regulatory Helpline at (800) 949-2732, select option 3.

SUPPLEMENTARY INFORMATION: Title: Currency Transaction Report (CTR), 31 CFR 103.22(b).

OMB Number: 1506-0004.

Form Number: FinCEN Form 104.

Abstract: The statute generally referred to as the “Bank Secrecy Act,” Titles I and II of Public Law 91-508, as amended, codified at 12 U.S.C. 1829b, 12 U.S.C. 1951-1959, and 31 U.S.C. 5311-5332, authorizes the Secretary of the Treasury (Secretary), inter alia, to require financial institutions to keep records and file reports that are determined to have a high degree of usefulness in criminal, tax, and regulatory investigations or proceedings, or in the conduct of intelligence or counter-intelligence activities, to protect against international terrorism, and to implement counter-money laundering programs and compliance procedures.¹ Regulations implementing Title II of the Bank Secrecy Act appear at 31 CFR Part 103. The authority of the Secretary to administer the Bank Secrecy Act has been delegated to the Director of FinCEN.

¹ Language expanding the scope of the Bank Secrecy Act to intelligence or counter-intelligence activities to protect against international terrorism was added by Section 358 of the Uniting and Strengthening America by Providing Appropriate Tools Required to Intercept and Obstruct Terrorism (USA PATRIOT) Act of 2001, Public Law 107-56.

Section 5313(a) of the Bank Secrecy Act authorizes the Secretary to issue regulations that require a report when “a domestic financial institution is involved in a transaction for the payment, receipt, or transfer of United States coins or currency (or other monetary instruments the Secretary prescribes), in an amount, denomination, or amount and denomination, or under circumstances the Secretary prescribes.” Regulations implementing section 5313(a) are found at 31 CFR 103.22. In general, the regulations require the reporting of transactions in currency to, by, or through a financial institution in excess of $10,000 by or on behalf of any one person in any one-business day. Financial institutions, as defined in 31 U.S.C. 5312(a)(2) and 31 CFR 103.11, are subject to the currency transaction reporting requirement. The Currency Transaction Report, FinCEN Form 104, is the form that financial institutions use to comply with the currency transaction reporting requirements.

Current action: This is a renewal without change of a currently approved collection. A copy of the Currency Transaction Report, FinCEN Form 104, may be obtained from the FinCEN Web site at http://www.fincen.gov/forms/fin104_ctr.pdf, or by calling (800) 949-2732 and selecting option 5.

Type of Review: Renewal of a currently approved information collection.

Affected Public: Business or other for-profit and non-profit institutions.

Frequency: As required.

Estimated Burden: Reporting average of 20 minutes per response. Form recordkeeping average of ten (10) minutes per response, for a total of 30 minutes.

Estimated number of respondents = 54,000.

Estimated Total Annual Responses = 13,710,000.

Estimated Total Annual Burden Hours: 6,855,000.

An agency may not conduct or sponsor, and a person is not required to respond to, a collection of information unless the collection of information displays a valid OMB control number. Records required to be retained pursuant to the Bank Secrecy Act must be retained for five years.

Request for Comments

Comments submitted in response to this notice will be summarized and/or included in the request for OMB approval. All comments will become a matter of public record. Comments are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance, and purchase of services to provide information.

Dated: September 28, 2009.
James H. Freis, Jr.,
Director, Financial Crimes Enforcement Network.

[FR Doc. E9-23750 Filed 10-1-09; 8:45 am]

BILLING CODE 4810-02-P